DEPARTMENT OF TRANSPORTATION

National Highway Traffic Safety Administration

49 CFR Part 571

[Docket No. NHTSA-2000-8258]

RIN No. 2127-AI10

Federal Motor Vehicle Safety Standards; Occupant Crash Protection

AGENCY: National Highway Traffic Safety Administration (NHTSA), DOT.

ACTION: Notice of technical workshop.

SUMMARY: This document announces that NHTSA will hold a technical workshop to give NHTSA an opportunity to make sure it understands the petitioners' issues concerning some of the test procedures for the advanced air bag final rule issued earlier this year.

DATES: The workshop will be held December 6, 2000, at the address listed below. Lists of persons wishing to participate in the workshop and the names of the vehicle models that participants wish to bring to the workshop to demonstrate test dummy positioning problems should be provided to Ed Jettner at the address or telephone number listed below by November 22, 2000. Due to space and time limitations, NHTSA may have to limit the number of representatives per organization as well as the number of problematic vehicles that will be examined.

ADDRESSES: The workshop will be held at the Vehicle Research and Test Center (VRTC), 10820 State Route 347, East Liberty, Ohio 43319. Directions to VRTC and the final agenda will be sent to participants.

FOR FURTHER INFORMATION CONTACT: Ed Jettner, Office of Crashworthiness Standards, NPS-11, National Highway Traffic Safety Administration, 400 Seventh Street, SW., Washington, DC 20590, telephone (202) 366-4917, Fax (202) 366-4329, e-mail ejettner@nhtsa.dot.gov.

SUPPLEMENTARY INFORMATION: On May 12, 2000, NHTSA published a final rule amending Standard No. 208, Occupant Crash Protection, to require that future air bags be designed to create less risk of serious air bag-induced injuries than current air bags, particularly for small women and young children; and provide improved frontal crash protection for all occupants, by means that include advanced air bag technology. (65 FR 30680; Docket No. NHTSA 00-7013; Notice 1) The period for submitting petitions for reconsideration closed June 26, 2000.

NHTSA received nine petitions for reconsideration of the final rule, some of which raised questions concerning some of the new test procedures in the final rule. We also received three requests for clarification of those procedures. To enable interested parties and NHTSA personnel to better understand the questions concerning those test procedures, we believe that it would be desirable to hold a technical workshop. The workshop will be limited to those procedures that petitioners have raised as legitimate technical issues. It will not address procedures that were the subject of policy-based objections. For example, NHTSA did not provide detailed test procedures on how to position the child or child dummy in static suppression tests. This lack of specificity was intentional since we wanted this technology to be robust enough to protect all children generally situated in the positions required by the final rule. While there may be a difference of opinion about the appropriateness of the agency's position, there is no need to review that issue at a technical workshop. The agency will respond to this and other non-technical issues in the notice responding to the petitions for reconsideration.

We believe that the petitioners raised legitimate technical issues about the following test procedures, and therefore that only those issues should be addressed at the workshop:

1. Cinchdown procedure for child restraints in vehicles equipped with static suppression technology to comply with the advanced air bag requirements.

2. Procedures for positioning the 6-year-old and 3-year-old child dummies in the passenger seating position in vehicles equipped with low-risk deployment technology to comply with the advanced air bag requirements. The workshop will address the method used to achieve the final position and the effect that the vehicle seat may have on achieving that position.

3. Procedures for positioning for the 5th percentile adult female dummy in the driver seating position for demonstrating compliance with the low-risk deployment test of the advanced air bag requirements. The workshop will address the method used to achieve the final chin-on-rim position, and the effect that the vehicle seat may have on achieving the chin-on-rim and chest-on-module positions.

NHTSA will announce any resolution of these issues in the notice responding to the petitions for reconsideration.

Several petitioners noted that they had problems with the above-listed test procedures in particular vehicles. We request that participants who have experienced problems with specific vehicles bring the vehicles to the workshop so that we may address as many of the different vehicle configurations as possible. If no problematic vehicles are presented at the workshop, we will limit the workshop to the cinchdown procedure for child seats.

We request that persons wishing to participate in the workshop notify Ed Jettner not later than November 22, 2000. Interested persons should indicate the company or organization which they represent. Interested persons wishing to bring a particular vehicle to demonstrate the dummy positioning difficulties should also identify for Mr. Jettner the vehicle models they would like to bring to the workshop. Once we compile a list of interested persons and problematic vehicles, we will determine whether the number of representatives per participant must be limited due to space and time constraints. If this proves to be necessary, we will equitably allocate the available space among the participating companies and organizations and among the identified problematic vehicles.

To facilitate communication, NHTSA will provide auxiliary aids to participants as necessary during the meeting. To ensure their availability, any person desiring assistance of auxiliary aids (e.g., sign-language interpreter) should contact Ed Jettner.

Authority: 15 U.S.C. 1392, 1401, 1403, 1407, delegation of authority at 49 CFR 1.50.

Issued on November 7, 2000.
Stephen R. Kratzke,
Associate Administrator for Safety Performance Standards.

[FR Doc. 00-28985 Filed 11-13-00; 8:45 am]

BILLING CODE 4910-59-P